DEPARTMENT OF ENERGY

Notice of Reopening of Public Comment Period for Draft Environmental Impact Statement for the Recapitalization of Infrastructure Supporting Naval Spent Nuclear Fuel Handling at the Idaho National Laboratory

AGENCY: Department of Energy.

ACTION: Notice of reopening of public comment period.

SUMMARY: On June 19, 2015 the U.S. Department of Energy (DOE) Naval Nuclear Propulsion Program (NNPP) published in the Federal Register, a notice of availability for the Draft Environmental Impact Statement for the Recapitalization of Infrastructure Supporting Naval Spent Nuclear Fuel Handling at the Idaho National Laboratory (DOE/EIS-0453-D) for public review and comment. That notice stated that the public comment period would continue through August 10, 2015. Based on a request received on August 6, 2015, the NNPP is reopening the public comment period through August 31, 2015.

DATES: The NNPP will accept public comments on the Draft Environmental Impact Statement for the Recapitalization of Infrastructure Supporting Naval Spent Nuclear Fuel Handling at the Idaho National Laboratory (DOE/EIS-0453-D) through August 31, 2015. Comments submitted prior to this announcement do not need to be resubmitted as a result of this reopening of the comment period.

ADDRESSES: Written comments on the Draft EIS may be submitted by mailing to: Erik Anderson, Department of Navy, Naval Sea Systems Command, 1240 Isaac Hull Avenue SE., Stop 8036,Washington Navy Yard, DC 20376-8036.

Comments provided by electronic mail (email) should be submitted to: ecfrecapitalization@unnpp.gov.

FOR FURTHER INFORMATION CONTACT: For further information about this Draft EIS, contact Mr. Erik Anderson, as described above.

For information regarding the DOE NEPA process, please contact: Ms. Carol M. Borgstrom, Director, Office of NEPA Policy and Compliance (GC-54), U.S. Department of Energy, 1000 Independence Avenue SW., Washington, DC 20585, Telephone (202) 586-4600, or leave a message at (800) 472-2756.

SUPPLEMENTARY INFORMATION: On June 19, 2015, DOE published a notice of availability (80 FR 35331), and on June 26, 2015 EPA published a notice of availability (80 FR 36803) that announced that comments on DOE/EIS-0453-D should be submitted within a 45-day period ending on August 10, 2015. The NNPP is reopening the time allowed for submittal of comments through August 31, 2015.

Issued in Washington, DC, on August 10, 2015.
John M. McKenzie
Director, Regulatory Affairs, Naval Nuclear Propulsion Program.

[FR Doc. 2015-20075 Filed 8-13-15; 8:45 am]

BILLING CODE 6450-01-P